DEPARTMENT OF JUSTICE

Notice of Lodging of Proposed Consent Decree Under the Safe Drinking Water Act

On June 24, 2024, the Department of Justice lodged a proposed consent decree with the United States District Court for the Southern District of New York in the lawsuit entitled United States v. Westchester Joint Water Works, et al., Civil Action No. 24 Civ. 4783.

The United States filed this lawsuit seeking injunctive relief and civil penalties for violations of the Safe Drinking Water Act against defendants Westchester Joint Water Works, the Town/Village of Harrison, the Village of Mamaroneck, and the Town of Mamaroneck, for violations of the maximum contaminant level set by the United States Environmental Protection Agency (“EPA”) for certain disinfectant byproducts in drinking water, and violations of a related EPA administrative order requiring the construction of a water filtration plant by specified deadlines.

The consent decree requires the defendants to build and commence operation of a drinking water filtration plant by July 1, 2029; to continue to implement measures to ensure the safety of its water supply until the filtration plant is operational; to pay a $600,000 civil penalty to the United States; and to spend at least $900,000 on a Supplemental Environmental Project to improve source water quality. The consent decree also resolves claims by the State of New York to enforce a previous state court judgment against Westchester Joint Water Works for violating separate regulations requiring the implementation of filtration. In addition to the construction of the filtration plant, the consent decree requires defendants to pay a $650,000 civil penalty to New York and to spend at least $6,800,000 on two state water quality benefit projects.

The publication of this notice opens a period for public comment on the consent decree. Comments should be addressed to the Assistant Attorney General, Environment and Natural Resources Division, and should refer to United States v. Westchester Joint Water Works, et al., D.J. Ref. No. 90-5-1-1-12441. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, D.C. 20044-7611

Any comments submitted in writing may be filed by the United States in whole or in part on the public court docket without notice to the commenter.

During the public comment period, the consent decree may be examined and downloaded at this Justice Department website: http://www.justice.gov/enrd/consent-decrees. If you require assistance accessing the consent decree, you may request assistance by email or by mail to the addresses provided above for submitting comments.

Henry S. Friedman,
Assistant Section Chief, Environmental Enforcement Section, Environment and Natural Resources Division.

[FR Doc. 2024-14287 Filed 6-27-24; 8:45 am]

BILLING CODE 4410-15-P